DEPARTMENT OF ENERGY

Federal Energy Regulatory Commission

[Docket No. EL02-68-000]

Southern Minnesota Municipal Power Agency, Complainant, v. Alliant Energy Corporate Services, Inc., Respondent; Notice of Complaint

March 12, 2002.

Take notice that on March 11, 2002, Southern Minnesota Municipal Power Agency (SMMPA) tendered for filing with the Federal Energy Regulatory Commission (Commission) in the above-proceeding, a Complaint and Request for Designation of Claims for Settlement in Furtherance of Commission's Directives in Docket Number ER01-312-002.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 1, 2002. Protests will be considered by the Commission in determining the appropriate action to be taken, but will not serve to make protestants parties to the proceeding. Any person wishing to become a party must file a motion to intervene. Answers to the complaint shall also be due on or before April 1, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-6434 Filed 3-15-02; 8:45 am]

BILLING CODE 6717-01-P